DEPARTMENT OF TRANSPORTATION

Federal Transit Administration

FY 2024 Competitive Funding Opportunity: Pilot Program for Transit-Oriented Development Planning

AGENCY: Federal Transit Administration, Department of Transportation (DOT).

ACTION: Notice of Funding Opportunity (NOFO).

SUMMARY: The Federal Transit Administration (FTA) announces the availability of $10,496,164 in Fiscal Year (FY) 2024 funding under the Pilot Program for Transit-Oriented Development Planning (TOD Pilot Program). As required by Federal public transportation law and subject to funding availability, funds will be awarded competitively to support comprehensive planning or site-specific planning associated with new fixed guideway and core capacity improvement projects. FTA may award additional funding that is made available to the TOD Pilot Program before the announcement of project selections.

DATES: Complete proposals must be submitted electronically through the GRANTS.GOV “APPLY” function by 11:59 p.m. July 22, 2024. Prospective applicants should initiate the process by registering on the GRANTS.GOV website immediately to ensure completion of the application process before the submission deadline. Instructions for applying can be found on FTA's website at https://www.transit.dot.gov/TODPilot and in the “FIND” module of GRANTS.GOV. The GRANTS.GOV funding opportunity ID is FTA-2024-005-TPE-TODP. Mail and fax submissions will not be accepted.

FOR FURTHER INFORMATION CONTACT: April McLean-McCoy, FTA Office of Planning and Environment, (202) 366-7429, or April.McLeanMcCoy@dot.gov. A TDD is available at 1-800-877-8339 (TDD/FIRS).

SUPPLEMENTARY INFORMATION:

Summary Overview of Key Information: Pilot Program for Transit-Oriented Development Planning
Program Overview | The Pilot Program for Transit-Oriented Development Planning (TOD Pilot Program) provides funding to eligible applicants to create comprehensive planning or site-specific planning studies associated with a new fixed guideway or core capacity improvement project.
Eligible Applicants | Applicants to the TOD Pilot Program must be a State, U.S. Territory, or local governmental authority as well as an FTA grant recipient (i.e., existing direct or designated recipients) as of the publication date of this Notice of Funding Opportunity (NOFO). Additionally, applicants must be the project sponsor of an eligible transit capital project as defined below in Section C, subsection 3, or an entity with land use planning authority in the project corridor of an eligible transit capital project.
Eligible Project Type | New fixed guideway and core capacity improvement projects.
Funding | TOD Pilot Program: $10,496,164.
Deadline | Insert Date 60 Days After Publication in the Federal Register.

Table of Contents

A. Program Description

B. Federal Award Information

C. Eligibility Information

D. Application and Submission Information

E. Application Review Information

F. Federal Award Administration Information

G. Federal Awarding Agency Contacts

H. Other Information

A. Program Description

Section 20005(b) of the Moving Ahead for Progress in the 21st Century Act (MAP-21), Public Law 112-141 (2012), as amended by section 30009 of the Infrastructure Investment and Jobs Act (also called the Bipartisan Infrastructure Law (BIL)), Public Law 117-58 (2021), authorizes FTA to award grants under the TOD Pilot Program in the amounts provided by 49 U.S.C. 5338(a)(2)(B). This funding opportunity can be found under Federal Assistance Listing number 20.500.

This program supports FTA's priorities and objectives through investments that (1) renew our transit systems, (2) reduce greenhouse gas emissions from public transportation, (3) advance racial equity by removing transportation-related disparities to all populations within a project area and increasing equitable access to project benefits, (4) maintain and create good-paying jobs with a free and fair choice to join a union, and (5) connect communities by increasing access to affordable transportation options. The TOD Pilot Program grants are competitively awarded to State and local governmental authorities to integrate land use and transportation planning through comprehensive or site-specific planning associated with a new fixed guideway capital project or a core capacity improvement project as defined in Federal public transportation law (49 U.S.C. 5309(a)). (See Section C of this NOFO for more information about eligibility). FTA seeks to fund planning activities under the TOD Pilot Program that:

• Reduce greenhouse gas emissions in the transportation sector, incorporate evidence-based climate resilience measures and features, reduce the lifecycle greenhouse gas emissions from the project materials, avoid adverse environmental impacts, and address negative environmental impacts (past, present, and future) on disadvantaged communities, consistent with Executive Order 14008, Tackling the Climate Crisis at Home and Abroad (86 FR 7619).

• Remove transportation-related disparities in the project area, and ensure equitable access to project benefits, particularly for communities that have experienced decades of underinvestment and are most impacted by climate change, pollution, and environmental hazards, consistent with Executive Order 13985, Advancing Racial Equity and Support for Underserved Communities Through the Federal Government (86 FR 7009).

• Address equity and environmental justice, particularly for communities that have experienced decades of underinvestment and are most impacted by climate change, pollution, and environmental hazards, consistent with Executive Order 14008, Tackling the Climate Crisis at Home and Abroad (86 FR 7619).

• Support the creation of good-paying jobs with the free and fair choice to join a union and the incorporation of strong labor standards and training and placement programs, especially registered apprenticeships, in project planning stages, consistent with Executive Order 14025, Worker Organizing and Empowerment (86 FR 22829), and Executive Order 14052, Implementation of the Infrastructure Investment and Jobs Act (86 FR 64335).

• Support wealth creation, consistent with the Department's Equity Action Plan, through the inclusion of local inclusive economic development and entrepreneurship such as the utilization of Disadvantaged Business Enterprises, Minority-owned Businesses, Women-owned Businesses, or Section 8(a) firms.

• Advance TOD projects that potentially qualify for Transportation Infrastructure Finance and Innovation Act (TIFIA) and Railroad Rehabilitation & Improvement Financing (RRIF) financing, as authorized at 23 U.S.C. 601(a)(12)(E) and 49 U.S.C. 22402(b)(1)(F), respectively, once the TOD planning study is complete.

Additionally, in support of the Federal “House America Initiative” led by the U.S. Department of Housing and Urban Development, FTA will strongly prioritize the award of TOD planning grants in areas of high incidence rates of homelessness, in the hope of providing opportunities for localities to address housing affordability in these areas and homelessness holistically through their planning processes.

The TOD Pilot Program intends to fund comprehensive or site-specific planning that (1) supports economic development; increased transit ridership, value capture, multimodal connectivity, and accessibility; increased transit access for pedestrian and bicycle traffic; and mixed-use and mixed-income development near transit stations; (2) delivers 40 percent of the overall benefits of the planning work to Historically Disadvantaged Communities (defined below), consistent with the Justice40 Initiative; and (3) supports the development of affordable housing, mitigates climate change, and addresses challenges facing environmental justice populations and homelessness. The TOD Pilot Program also encourages the identification of infrastructure needs and engagement with the private sector.

FTA also encourages TOD planning in areas where communities are trying to preserve, protect, and increase the supply of affordable housing. For assets that were acquired with Federal assistance and are no longer needed for the originally authorized purpose, section 6609 of the Fiscal Year 2022 National Defense Authorization Act (NDAA) (Pub. L. 117-81) allows FTA to authorize the transfer of the asset to a local governmental authority, non-profit organization, or other third-party entity with no further obligations to FTA if, among other factors, it will be used for TOD that includes affordable housing (49 U.S.C. 5334(h)(1)).

FTA is seeking comprehensive planning projects that cover an entire transit capital project corridor or site-specific planning projects. To ensure that any proposed planning work both reflects the needs and aspirations of the local community and results in concrete, specific deliverables, and outcomes, FTA will only select proposals in which the transit project sponsor partners with entities with land use planning authority in the transit project corridor to conduct the planning work.

B. Federal Award Information

FTA intends to award all available funding in the form of grants to selected applicants responding to this NOFO. A total of $10,496,164 is made available through this NOFO. The authorized funding level in BIL is $13,782,778 in Fiscal Year (FY) 2024 funds, and a portion of this funding was committed in the FY 2023 TOD Pilot Program Project Selections. Additional funds made available prior to project selection may be allocated to eligible projects. Only proposals from eligible recipients for eligible activities are considered for funding. Due to funding limitations, applicants who are selected for funding may receive less than the amount originally requested and are thus encouraged to identify a scaled funding request in their application.

In response to the FY 2023 NOFO (88 FR 53585, which closed on October 10, 2023), the TOD Pilot Program received 32 applications for eligible projects requesting a total of $26,801,134. Of the eligible applications received, 20 projects were funded at a total of $17,620,000 and were provided with a 100 percent Federal share, for they met the affordable housing incentive (see section C.3.ii.v of this notice for affordable housing incentive requirements).

FTA provides pre-award authority, consistent with 2 CFR 200.458, for selected projects to incur costs beginning on the date FY 2024 project selections are announced on FTA's website. Funds are available for obligation for four fiscal years after the fiscal year in which the competitive awards are announced.

C. Eligibility Information

1. Eligible Applicants

Applicants to the TOD Pilot Program must be a State, U.S. Territory, or local governmental authority as well as an FTA grant recipient (i.e., existing direct or designated recipients) as of the publication date of this NOFO. An applicant must be the project sponsor of an eligible transit capital project as defined below in Section C, subsection 3, or an entity with land use planning authority in the project corridor of an eligible transit capital project. Except in cases where an applicant is both the sponsor of an eligible transit project and has land use authority in at least a portion of the transit project corridor, the applicant must partner with the relevant transit project sponsor or at least one entity in the project corridor with land use planning authority. Documentation of this partnership must be included with the application; see Section D, subsection 2 of this NOFO for further information.

If the application is for a comprehensive plan, only one application per transit capital project corridor may be submitted to FTA. Multiple applications submitted for a single comprehensive transit capital project corridor indicate that partnerships are not in place, and FTA may reject all of the applications. FTA may accept multiple applications for the same corridor if each application is a site-specific application, the applications are submitted by separate applicants with different land-use authorities, or a given application does not overlap with any other application that would cover the same site.

2. Cost Sharing or Matching

In general, the maximum Federal funding share for proposals is 80 percent. However, proposals that support planning activities that assist parts of an urbanized area or rural area with lower population density or lower average income levels compared to the adjoining area are eligible to receive a Federal funding share of no less than 90 percent and applicants may request a share up to 100 percent if requirements provided in 49 U.S.C 5305(f) are met (see the March 21, 2023 Dear Colleague letter, “Increased Federal Share under the Metropolitan Planning Program and State Planning and Research Program” (https://www.transit.dot.gov/regulations-and-programs/dear-colleague-letters/dear-colleague-letter-increased-federal-share-under)). Proposals that address three or more activities related to the development of affordable housing for meeting the affordable housing incentive (see section C.3.ii.v of this notice for affordable housing incentive requirements) may receive a Federal funding share of 100 percent.

Eligible sources of non-Federal match include the following: cash from non-Federal sources (other than revenues from providing public transportation services); revenues derived from the sale of advertising and concessions; amounts received under a service agreement with a State or local social service agency or private social service organization; revenues generated from value capture financing mechanisms; funds from an undistributed cash surplus; replacement or depreciation cash fund or reserve; or new funding. In-kind contributions are permitted. Transportation Development Credits (formerly referred to as Toll Revenue Credits) may not be used to satisfy the non-Federal match requirement.

3. Other Eligibility Criteria

i. Eligible Transit Projects

Any comprehensive or site-specific planning work proposed for funding under the TOD Pilot Program must be associated with an eligible transit capital project. To be eligible, the proposed transit capital project must be a new fixed guideway project or a core capacity improvement project.

As defined by Federal public transportation law (49 U.S.C. 5302(8)), a “fixed guideway” is a public transportation facility:

(A) Using and occupying a separate right-of-way for the exclusive use of public transportation;

(B) Using rail;

(C) Using a fixed catenary system;

(D) For a passenger ferry system; or

(E) For a bus rapid transit system.

A “new fixed guideway capital project” is defined by 49 U.S.C. 5309(a)(5) as:

(A) A new fixed guideway project that is a minimum operable segment or extension to an existing fixed guideway system; or

(B) A fixed guideway bus rapid transit project that is a minimum operable segment or an extension to an existing bus rapid transit system.

A “fixed-guideway bus rapid transit project” is defined (49 U.S.C. 5309(a)(4)) as a bus capital project:

(A) In which the majority of the project operates in a separated right-of-way dedicated for public transportation use during peak periods;

(B) That represents a substantial investment in a single route in a defined corridor or subarea; and

(C) That includes features that emulate the services provided by rail fixed guideway public transportation systems, including:

(i) Defined stations;

(ii) Traffic signal priority for public transportation vehicles;

(iii) Short headway bidirectional services for a substantial part of weekdays and weekend days; and

(iv) Any other features the Secretary may determine are necessary to produce high-quality public transportation services that emulate the services provided by rail fixed guideway public transportation systems.

A “core capacity improvement project” is defined by 49 U.S.C. 5309(a)(2) as a “substantial corridor-based capital investment in an existing fixed guideway system that increases the capacity of the corridor by not less than 10 percent.” The term does not include project elements designed to maintain a state of good repair of the existing fixed guideway system.

Comprehensive or site-specific planning work in a corridor for a transit capital project that does not meet the statutory definitions above of either a new fixed guideway project or a core capacity improvement project is not eligible under the TOD Pilot Program.

ii. Eligible Activities

As outlined in the Application Review Information section below, any comprehensive or site-specific planning funded under the TOD Pilot Program must address all six factors set forth in section 20005(b)(2) of MAP-21, as amended by section 30009 of the BIL. Additionally, the comprehensive or site-specific planning deliverables should align with the metropolitan planning organization's planning documents. Applicants must also establish performance criteria for the planning effort.

Substantial deliverables may result from the comprehensive or site-specific planning work, such as reports, plans, and other materials that represent the key accomplishments of the comprehensive planning effort, and these must be submitted to FTA as each is completed. Substantial deliverables may include, but are not restricted to the following:

(A) A comprehensive TOD plan report that includes corridor development policies and station development plans comprising the corridor or the specific site, a proposed timeline, and recommended financing strategies for these plans;

(B) A strategic plan report that includes corridor or site-specific planning strategies and program recommendations to support comprehensive planning;

(C) Revised TOD-focused zoning codes and/or resolutions;

(D) A report evaluating and recommending financial tools to encourage TOD implementation such as land banking, value capture, and development financing; and

(E) A plan with supportive policies for pedestrian or bicycle connectivity that reduces barriers to active transportation spines.

(F) Policies to encourage affordable housing, such as:

(1) Strategic policies that reduce regulatory barriers to the development of affordable housing or infill development (e.g., inclusionary zoning that specifies a percentage of new units are affordable for targeted incomes, the provision of density bonuses for the creation of affordable housing units or a partnership with a community development corporation to accelerate affordable housing plans);

(2) Policies that support affordable rental opportunities;

(3) Policies that relax parking standards and reduce parking minimums;

(4) Policies that support permanent affordable housing for disadvantaged groups in areas with high incidence rates of homelessness; and

(5) Policies that encourage streamlined permitting for affordable housing units;

(G) Policies to encourage TOD, including actions that reduce regulatory barriers that unnecessarily raise the costs of housing development or impede the development of affordable housing;

(H) Policies to encourage TOD, including actions that increase access to environmental justice populations, reduce greenhouse gas emissions, and reduce the effects of climate change;

(I) Local or regional resolutions to implement TOD plans and/or establish TOD funding mechanisms;

(J) TOD and affordable housing plans or policies that encourage coordination efforts between transportation and housing agencies or community development corporations, or

(K) Policies to prioritize TOD in areas with high incidence rates of homelessness for localities to address homelessness holistically through their planning processes.

iii. Ineligible Activities

FTA will not make awards for the following activities:

(A) Transit project development activities that would be reimbursable under an FTA capital grant, such as project planning, the design and engineering of stations and other facilities, environmental analyses needed for the transit capital project, or costs associated with specific joint development activities; and

(B) Capital activities, such as land acquisition, construction, and utility relocation.

D. Application and Submission Information

1. Address To Request Application Package

Applications must be submitted electronically through GRANTS.GOV. The application is only available on GRANTS.GOV and must be submitted electronically through GRANTS.GOV. General information for submitting applications through GRANTS.GOV can be found at https://www.transit.dot.gov/howtoapply along with specific instructions for the forms and attachments required for submission. The Standard Form (SF) 424, Application for Federal Assistance, which must be included with every application, can be downloaded from GRANTS.GOV. The supplemental form for the FY 2024 TOD Pilot Program can be downloaded from GRANTS.GOV or the FTA website at https://www.transit.dot.gov/TODPilot. The GRANTS.GOV funding opportunity ID is FTA-2024-005-TPE-TODP.

2. Content and Form of Application Submission

Failure to submit information as requested can delay review or disqualify the application.

Proposals must include a completed SF-424 Mandatory form and the following attachments to the completed SF-424:

i. A completed Applicant and Proposal Profile supplemental form for the TOD Pilot Program (supplemental form) found on the FTA website at https://www.transit.dot.gov/TODPilot. The information on the supplemental form is used by FTA to determine applicant and project eligibility for the program, and to evaluate the proposal against the selection criteria described in part E of this notice;

ii. A map of the proposed study area showing the transit project alignment and stations, major roadways, major landmarks, and the geographic boundaries of the proposed comprehensive or site-specific planning activities;

iii. Documentation of a partnership between the transit project sponsor and an entity in the project corridor with land use planning authority to conduct the comprehensive or site-specific planning work, if the applicant does not have both of these responsibilities. Documentation may consist of a memorandum of agreement or letter of intent signed by all parties that describes the parties' roles and responsibilities in the proposed comprehensive or site-specific planning project; and

iv. Documentation of any funding commitments for the proposed comprehensive or site-specific planning work.

Information such as the applicant's name, Federal amount requested, local match amount, and description of the study area, are requested in varying degrees of detail on both the SF-424 form and supplemental form. Applicants must fill in all fields unless stated otherwise on the forms. Applicants should use both the “Check Package for Errors” and the “Validate Form” buttons on both forms to check all required fields and ensure that the Federal and local amounts specified are consistent. In the event of errors with the supplemental form, FTA recommends saving the form on your computer and ensuring that JavaScript is enabled in your PDF reader. The information listed below must be included on the SF-424 and supplemental forms for TOD Pilot Program funding applications. The SF-424 and supplemental form will prompt applicants to address the following items:

a. Provide the name of the lead applicant and, if applicable, the specific co-sponsors submitting the application.

b. Provide the applicant's Unique Entity Identifier (UEI), assigned by SAM.gov.

c. Provide contact information including: Contact name, title, address, phone number, and email address.

d. Specify the Congressional district(s) where the planning project will take place.

e. Identify the project title and project scope to be funded, including anticipated substantial deliverables and the milestones at which they will be provided to FTA.

f. Identify and describe an eligible transit project that meets the requirements of Section C, subsection 3 of this notice.

g. Provide evidence of a partnership between the transit project sponsor and at least one agency with land use authority in the transit capital project corridor, as described earlier in this subsection.

h. Address the six factors set forth in MAP-21 Section 20005(b)(2).

i. Provide evidence of a partnership between a transit project sponsor and an entity in the project corridor and those partners that support unhoused populations and address affordable housing, such as cities, municipalities, non-profit organizations, and housing authorities.

j. Address each evaluation criterion separately, demonstrating how the project responds to each criterion as described in Section E.

k. Provide a line-item budget for the total planning effort, with enough detail to indicate the various key components of the comprehensive or site-specific planning project.

l. Identify the TOD Pilot Program Federal amount requested.

m. Document the matching funds, including the amount and source of the match (may include local or private sector financial participation in the project). Describe whether the matching funds are committed or planned and include documentation of the commitments.

n. Provide explanation of the scalability of the project.

o. Address whether other Federal funds have been sought or received for the comprehensive or site-specific planning project.

p. Provide a schedule and process for the development of the comprehensive or site-specific plan that includes anticipated dates for incorporating the planning work effort into the region's unified planning work program, completing major tasks and substantial deliverables, and completing the overall planning effort.

q. Describe how the comprehensive or site-specific planning work aligns with the metropolitan transportation plan of the metropolitan planning organization.

r. Propose performance criteria for the development and implementation of the comprehensive or site-specific planning work.

s. Identify potential State, local or other impediments to the implementation of the comprehensive plan or site-specific plan, and how the work will address them.

t. Describe how the comprehensive or site-specific planning work addresses climate change and elevates challenges facing environmental justice populations.

u. Describe how the comprehensive or site-specific planning work allows 40 percent of the overall benefits to flow to Historically Disadvantaged Communities (defined below).

v. Describe how the comprehensive or site-specific planning work prioritizes TOD plans in areas with high incidence rates of homelessness and addresses homelessness holistically through their planning processes.

w. Describe how the comprehensive or site-specific planning work addresses the historic displacement of historically disadvantaged populations and how it seeks to mitigate the displacement or improve the conditions for populations at risk of displacement, if possible. In addition, describe how local residents surrounding the comprehensive or site-specific planning work will be included in community engagement, especially those that have been historically excluded.

x. Describe how the comprehensive or site-specific planning work includes value capture considerations. Value capture refers to the recipient's recovery of a share of the financial value created by the recipient's transit activities. Examples of a recipient's value capture strategies include: financial interest gained from tax increment financing, special assessments, and capital interest in joint developments. For more information, see https://www.transit.dot.gov/valuecapture.

y. Describe the community input process for the comprehensive or site-specific planning work.

z. Identify infrastructure needs associated with the eligible project.

aa. Describe how the comprehensive or site-specific planning work incorporates affordable housing or other mixed-income elements.

bb. Address how the project will consider climate change and environmental justice in the planning stage and project delivery. In particular, the application must address how the project reduces greenhouse gas emissions in the transportation sector, incorporates evidence-based climate resilience measures and features, and reduces the lifecycle greenhouse gas emissions from the project materials. Applications also must address the extent to which the project avoids adverse environmental impacts to air or water quality, wetlands, and endangered species, and address disproportionate negative impacts of climate change and pollution on disadvantaged communities, including natural disasters, with a focus on prevention, response, and recovery.

cc. Address how the project will include an equity assessment that evaluates whether a project will create proportional impacts and remove transportation related disparities to all populations in a project area. Applications must demonstrate how meaningful public engagement will occur throughout a project's life cycle. Applicants must address how project benefits will increase affordable transportation options, improve safety, connect Americans to good-paying jobs, fight climate change, and/or improve access to resources and quality of life.

dd. Applicants must address all the applicable criteria and priority considerations identified in Section E.

FTA will also give priority consideration to projects that support the Justice40 initiative. Applicants must use the Climate and Economic Justice Screening Tool (CEJST), provided by the Council on Environmental Quality, to identify the historically disadvantaged communities within their study area. This tool can be found at https://screeningtool.geoplatform.gov. Applicants must provide an image from the map tool outputs. Alternatively, consistent with OMB's Interim Guidance, applicants can supply quantitative, demographic data of the eligible transit project's ridership demonstrating the percentage that meets the criteria for disadvantage described in Executive Order 14008. In support of Executive Order 14008, DOT has been developing a geographic definition of “Historically Disadvantaged Communities” as part of its implementation of the Justice40 Initiative. Consistent with OMB's Interim Guidance for the Justice40 Initiative, Historically Disadvantaged Communities include (a) certain qualifying census tracts, (b) any Tribal land, or (c) any territory or possession of the United States. DOT is providing a mapping tool to assist applicants in identifying whether a project is located in a Historically Disadvantaged Community Transportation Disadvantaged Census Tract U.S. DOT Equitable Transportation Community (ETC) Explorer (arcgis.com). This tool can be found at https://experience.arcgis.com/experience/0920984aa80a4362b8778d779b090723/page/Homepage/. In addition to CEJST, applicants can use the ETC tool to generate additional data on the study area. Examples of indicators for Historically Disadvantaged Communities that an applicant could address using geographic or demographic information include percentages of low income, high or persistent poverty, high unemployment and underemployment, racial and ethnic residential segregation, linguistic isolation, high housing cost burden and substandard housing, and high transportation cost burden and/or low transportation access. Additionally, in support of the Justice40 Initiative, the applicant also should provide evidence of strategies that the applicant has used in the planning process to seek out and consider the needs of those historically disadvantaged and underserved by existing transportation systems. For technical assistance using the mapping tool, please contact GMO@dot.gov.

The comprehensive or site-specific planning project budget must show the different funding sources for each activity and present the data in dollars and percentages. Funding sources should be grouped into three categories: “Non-Federal” “Pilot Program for Transit-Oriented Development Planning,” and “Other Federal,” with specific amounts from each funding source provided. The budget should identify other Federal funds the applicant is applying for or has been awarded, if any.

Due to funding limitations, projects that are selected for funding may receive less than the amount originally requested, even if an application did not present a scaled project option. In those cases, applicants must be able to demonstrate that the proposed project is still viable and can be completed with the amount awarded.

Sharing of Application Information—The Department may share application information within the Department or with other Federal agencies if the Department determines that sharing is relevant to the respective program's objectives.

3. Unique Entity Identifier and System for Award Management (SAM.GOV)

Each applicant is required to: (1) register in SAM.GOV before submitting an application; (2) provide a valid unique entity identifier in its application; and (3) maintain an active SAM.GOV registration with current information at all times during which the applicant has an active Federal award or an application or plan under consideration by FTA. FTA may not make an award until the applicant has complied with all applicable unique entity identifier and SAM.GOV requirements. If an applicant has not fully complied with the requirements by the time FTA is ready to make an award, FTA may determine that the applicant is not qualified to receive an award and use that determination as a basis for making a Federal award to another applicant. These requirements do not apply if the applicant is excepted from registration per 2 CFR 25.110. SAM.GOV registration takes approximately 3-5 business days, but FTA recommends allowing ample time, up to several weeks, for completion of all steps. For additional information on obtaining a unique entity identifier, please visit https://www.sam.gov.

4. Submission Dates and Times

Project proposals must be submitted electronically through GRANTS.GOV by 11:59 p.m. Eastern Time July 22, 2024. GRANTS.GOV attaches a time stamp to each application at the time of submission. Proposals submitted after the deadline are only considered under extraordinary circumstances, not under the applicant's control. Applications are time and date stamped by GRANTS.GOV upon successful submission. Mail, email, and fax submissions are not accepted.

Within 48 hours after submitting an electronic application, the applicant should receive two email messages from GRANTS.GOV: (1) confirmation of successful transmission to GRANTS.GOV; and (2) confirmation of successful validation by GRANTS.GOV. FTA then validates the application and attempts to notify any applicants whose applications could not be validated. If the applicant does not receive confirmation of successful validation or a notice of failed validation or incomplete materials, the applicant must address the reason for the failed validation, as described in the email notice, and resubmit before the submission deadline. If making a resubmission for any reason, include all original attachments regardless of which attachments were updated and check the box on the supplemental form indicating this is a resubmission. An application that is submitted at the deadline and cannot be validated is marked as incomplete, and such applicants do not receive additional time to re-submit.

FTA urges applicants to submit their applications at least 96 hours prior to the due date to allow time to receive the validation messages and to correct any problems that may have caused a rejection notification. GRANTS.GOV scheduled maintenance and outage times are announced on the GRANTS.GOV website at https://www.grants.gov. Deadlines are not extended due to scheduled maintenance or outages.

Applicants are encouraged to begin the registration process on the GRANTS.GOV site well in advance of the submission deadline. Registration is a multi-step process, which may take several weeks to complete before an application can be submitted. Registered applicants may still be required to take steps to keep their registration up to date before submissions can be made successfully: (1) registration in SAM.GOV is renewed annually and (2) persons making submissions on behalf of the Authorized Organization Representative (AOR) must be authorized in GRANTS.GOV by the AOR to make submissions.

5. Funding Restrictions

See Section C of this NOFO for detailed eligibility requirements. FTA emphasizes that any comprehensive or site-specific planning projects funded through the TOD Pilot Program must be associated with an eligible transit project, specifically a new fixed guideway project or a core capacity improvement project as defined in Federal transit statute, 49 U.S.C. 5309(a). Projects are not required to be funded through the Capital Investment Grants Program. Funds must be used only for the specific comprehensive or site-specific planning purposes requested in the application. Funds under this NOFO cannot be used to reimburse applicants for otherwise eligible expenses incurred prior to FTA's announcement of project selections and issuance of pre-award authority. Refer to Section C.3 for information on projects and activities that are allowable in this grant program. Allowable direct and indirect expenses must be consistent with the Government-wide Uniform Administrative Requirements and Cost Principles (2 CFR part 200) and FTA Circular 5010.1.

6. Other Submission Requirements

Applicants are encouraged to identify scaled funding options in case insufficient funding is available to fund a project at the full requested amount. If an applicant indicates that a project is scalable, the applicant must provide an appropriate minimum funding amount for an eligible project that achieves the objectives of the program and meets all relevant program requirements. The applicant must provide a clear explanation of how the project budget would be affected by a reduced award. FTA may select the project for a lesser amount of funding regardless of whether a scalable option is provided.

All applications must be submitted via the GRANTS.GOV website. FTA does not accept applications on paper or by fax, email, or other means. For information on application submission requirements, please see Section D.1., Address to Request Application Package, and Section D.4., Submission Dates and Times.

FTA encourages applicants to:

• Demonstrate whether they have considered climate change, housing affordability and environmental justice in terms of the transportation planning process or anticipated transit capital project design components with outcomes that address climate change (e.g., resilience or adaptation measures).

• Describe what specific climate change, affordable housing, or environmental justice activities have been incorporated, including whether a project supports a Climate Action Plan, whether an equitable development plan has been prepared, and whether tools such as the Climate and Economic Justice Screening Tool (CEJST), provided by the Council on Environmental Quality, at https://screeningtool.geoplatform.gov or the Environmental Protection Agency's (EPA) EJSCREEN at: https://www.epa.gov/ejscreen or DOT's Historically Disadvantaged Community tool at: https://usdot.maps.arcgis.com/apps/dashboards/d6f90dfcc8b44525b04c7ce748a3674a have been applied in project planning.

• Address how the comprehensive or site-specific planning project is related to housing or land use reforms to increase density and reduce climate impacts. The application should describe specific and direct ways the transit capital project will mitigate or reduce climate change impacts including any components that reduce emissions, promote energy efficiency, incorporate electrification or low emission or zero emission vehicle infrastructure, increase resilience, recycle or redevelop existing infrastructure or if located in a floodplain be constructed or upgraded consistent with the Federal Flood Risk Management Standard, to the extent consistent with current law. In addition, FTA will consider benefits to Environmental Justice (EJ) populations (E.O. 12898) when reviewing applications received under this program.

• Identify any EJ populations located within the proposed service area and describe anticipated benefits to that population(s) should the applicant receive a grant under this program. A formal EJ analysis that is typically included in transportation planning or environmental reviews is not requested.

E. Application Review Information

1. Criteria

Project proposals are evaluated primarily on the responses provided in the supplemental form. Additional information may be provided to support the responses; however, any additional documentation must be directly referenced on the supplemental form, including the file name where the additional information can be found. Applications are evaluated based on the quality and extent to which the following evaluation criteria are addressed.

a. Project Factors

FTA evaluates whether the project funded under the TOD Pilot Program addresses all six factors set forth in Section 20005(b)(2) of MAP-21, as amended by section 30009 of the BIL:

i. Enhances economic development, ridership, and other goals established during the project development and engineering processes;

ii. Facilitates multimodal connectivity and accessibility;

iii. Increases access to transit hubs for pedestrian and bicycle traffic;

iv. Enables mixed-use development;

v. Identifies infrastructure needs associated with the eligible project; and

vi. Includes private sector participation.

b. Demonstrated Need

FTA evaluates each project to determine the need for funding based on the following factors:

i. How the proposed work will advance TOD implementation in the corridor and region;

ii. Justification as to why Federal funds are needed for the proposed work;

iii. Extent to which the transit project corridor could benefit from TOD planning;

iv. Extent to which TOD planning will address climate change, affordable housing, and challenges facing environmental justice populations.

c. Strength of the Work Plan, Schedule, and Process

FTA evaluates the strength of the work plan, schedule, and process included in the application based on the following factors:

i. Potential state, local, or other impediments to the implementation of the comprehensive or site-specific plan, and how the workplan will address them;

ii. Extent to which the schedule contains sufficient detail, identifies all steps needed to implement the work proposed, and is achievable;

iii. The proportion of the project corridor covered by the work plan and/or site;

iv. Extent of partnerships, including how community stakeholders will be engaged and how the applicant will consider the needs of those traditionally underserved by existing transportation systems, such as low-income and minority households, and unhoused populations who may face challenges accessing employment and other services.

v. The partnerships' technical capability to develop, adopt, and implement the comprehensive or site-specific plans, based on FTA's assessment of the applicant's description of the policy formation, implementation, and financial roles of the partners, and the roles and responsibilities of proposed staff;

vi. Extent to which this TOD planning effort increases access for environmental justice populations and allows them to participate in this TOD planning effort;

vii. Extent to which the TOD planning effort increases affordable housing supply;

viii. Extent to which the comprehensive or site-specific plan will seek to reduce greenhouse gas emissions and the effects of climate change;

ix. How the performance measures identified in the application relate to the goals of the comprehensive or site-specific planning work.

d. Funding Commitments

FTA will assess the status of local matching funds for the planning work. In general, the maximum Federal funding share for proposals is 80 percent. Proposals that support planning activities that assist parts of an urbanized area or rural area with lower population density or lower average income levels compared to the applicable area or adjoining areas will receive a Federal funding share of no less than 90 percent and applicants may request a share up to 100 percent (see the March 21, 2023, Dear Colleague letter: Local Match Waiver for Complete Streets: (https://www.transit.dot.gov/regulations-and-programs/dear-colleague-letters/dear-colleague-letter-local-match-waiver-complete). Proposals that address three or more activities related to the development of affordable housing (see section C.3.ii.v of this notice for affordable housing incentive requirements) will receive a TOD Planning Program funding share of 100 percent.

Applications demonstrating that matching funds for the proposed comprehensive planning or site-specific planning work are already committed receive higher ratings from FTA on this factor. Proposed comprehensive or site-specific planning projects for which matching funding sources have been identified, but are not yet committed, are given lower ratings under this factor by FTA, as will proposed comprehensive or site-specific planning projects for which in-kind contributions constitute the primary or sole source of match.

2. Review and Selection Process

An FTA technical evaluation committee verifies each proposal's eligibility and evaluates proposals based on the published evaluation criteria. FTA may request additional information from applicants, if necessary.

After completing the merit review, among projects of similar merit, DOT prioritizes comprehensive or site- specific planning projects that:

i. Are expected to lead to significantly reduced greenhouse gas emissions in the transportation sector, such as through requiring fiscally responsible land use; increasing the use of energy efficient modes of transportation like transit, rail, and active transportation; transitioning to clean vehicles and fuels, including through electrification; and/or incorporating carbon-reducing uses of the right-of-way or other carbon reduction strategies.

ii. Incorporate evidence-based climate resilience measures or features, such as using best-available climate data sets, information resources, and decision-support tools (including USDOT and other Federal resources) to assess the climate-related vulnerability and risk of the transit capital project; developing and deploying resilience solutions to address those risks; incorporating nature-based solutions; constructing or upgrading infrastructure using the Federal Flood Risk Management Standard, consistent with current law; and monitoring performance of climate resilience measures.

iii. Address the disproportionate negative environmental impacts of transportation on disadvantaged communities, such as considering the benefits and burdens the transit capital project may create, and what communities would be most affected.

iv. Avoid adverse environmental impacts to air or water quality, wetlands, and endangered species, such as through reduction in Clean Air Act criteria pollutants and greenhouse gases, improved stormwater management, or improved habitat connectivity.

v. Enable all people within the multimodal transportation networks to reach their desired destination safely, equitably, reliably, and affordably, and with a comparable level of efficiency and ease.

vi. Reconnect communities and mitigate neighborhood bifurcation through land bridges, caps, lids, linear parks, investments in walking, biking and rolling assets, and other solutions.

vii. Address the disproportional impacts of crashes on underserved communities, including individuals with disabilities.

viii. Expand access to critical community services such as education and healthcare through mass transit services.

ix. Address the unique challenges rural and Tribal communities face related to mobility and economic development, including isolation, transportation cost burden, and traffic safety (pursuant to DOT's Rural Opportunities to Use Transportation for Economic Success (ROUTES) initiative).

x. Encourage an increase in housing supply, particularly location-efficient affordable housing, locally-driven land use and zoning reform, rural main street revitalization, growth management, and transit-oriented development, pursuant to the White House Housing Supply Action Plan (https://www.whitehouse.gov/briefing-room/statements-releases/2022/05/16/president-biden-announces-new-actions-to-ease-the-burden-of-housing-costs/). Additionally, projects that encourage affordable housing, particularly in areas with high incidence rates of homelessness.

xi. Incorporate and support integrated land use, economic development, and transportation planning to improve the movement of people and goods and local fiscal health, and to facilitate greater public and private investments and strategies in land-use productivity, including rural main street revitalization or an increase in the production or preservation of location-efficient housing.

xii. Provide the plan to conduct meaningful public involvement that includes underserved communities throughout the transit capital project lifecycle and uses a meaningful public involvement process. Additionally, consider the benefits and potential burdens a transit capital project may create, who would experience them, and how they may be measured over time, with a specific focus on how the benefits and potential burdens impact underserved/disadvantaged communities.

xiii. Benefit underserved/Historically Disadvantaged Communities, including benefits that would accrue to underserved/Historically Disadvantaged Communities outside of the specific transit capital project area. Applicants must use CEJST, provided by the Council on Environmental Quality, to identify the historically disadvantaged communities within their study area. This tool can be found at https://screeningtool.geoplatform.gov. Applicants must provide an image from the map tool outputs. Alternatively, consistent with OMB's Interim Guidance, applicants can supply quantitative, demographic data of the eligible transit project's ridership demonstrating the percentage that meets the criteria for disadvantage described in Executive Order 14008.

In support of Executive Order 14008, and consistent with OMB's Interim Guidance for the Justice40 Initiative, Historically Disadvantaged Communities include (a) certain qualifying census tracts, (b) any Tribal land, or (c) any territory or possession of the United States. Applicants should use CEJST, a new tool by the White House Council on Environmental Quality (CEQ), that aims to help Federal agencies identify disadvantaged communities as part of the Justice40 initiative to accomplish the goal that 40 percent of benefits from certain Federal investment reach disadvantaged communities. For this NOFO, CEJST is the primary tool used to identify disadvantaged communities (Justice40 communities). Applicants are also strongly encouraged to use the USDOT Equitable Transportation Community (ETC) Explorer to understand how their community or project area is experiencing disadvantage related to lack of transportation investments or opportunities. Through understanding how a community or transit capital project area is experiencing transportation-related disadvantage, applicants are able to address in the comprehensive or site-specific plans how the benefits of a project will reverse or mitigate the burdens of disadvantage and demonstrate how the project will address challenges and accrued benefits. Applicants should provide an image of the map tool outputs. Applicants may also supply additional quantitative, demographic data of their transit capital project ridership demonstrating the percentage of their ridership that meets the criteria described in Executive Order 14008 for disadvantage. Applicants must use CJEST to identify the historically disadvantaged communities within their study area. This tool can be found at https://screeningtool.geoplatform.gov. Examples of Historically Disadvantaged Communities that an applicant could address using geographic or demographic information include low income, high and/or persistent poverty, high unemployment and underemployment, racial and ethnic residential segregation, linguistic isolation, or high housing cost burden and substandard housing. Additionally, in support of the Justice40 Initiative, the applicant also should provide evidence of strategies that the applicant has used in the planning process to seek out and consider the needs of those traditionally disadvantaged and underserved by existing transportation systems. For technical assistance using the ETC mapping tool, please contact GMO@dot.gov.

FTA will evaluate the proposals to determine the extent that the proposed comprehensive or site-specific planning project will address affordable housing needs, provide equitable housing choices for environmental justice populations, and avoid displacement of low-income households and existing small businesses.

Among the factors in determining the allocation of program funds, FTA may consider geographic diversity, diversity in the size of the applicants receiving funding, or the applicant's receipt of other competitive awards. Taking into consideration the findings of the technical evaluation committee, the FTA Administrator determines the final selection of projects for program funding.

3. Integrity and Performance Review

Prior to making an award, FTA is required to review and consider any information about the applicant that is in the Federal Awardee Performance and Integrity Information Systems (FAPIIS) accessible through SAM.GOV. An applicant may review and comment on information about itself that a Federal awarding agency previously entered. FTA will consider any comments by the applicant, in addition to the other information in the designated integrity and performance system, in making a judgment about the applicant's integrity, business ethics, and record of performance under Federal awards when completing the review of risk posed by applicants as described in the Office of Management and Budget's Uniform Requirements for Federal Awards (2 CFR 200.205).

F. Federal Award Administration Information

1. Federal Award Notices

The FTA Administrator will announce the final project selections on the FTA website. Project recipients should contact their FTA Regional Offices for additional information regarding allocations for projects under the TOD Pilot Program.

i. Pre-Award Authority

FTA will issue specific guidance to selected recipients regarding pre-award authority at the time of selection. FTA does not provide pre-award authority for competitive funds until projects are selected and, even then, there are Federal requirements that must be met before costs are incurred. Funds under this NOFO cannot be used to reimburse applicants for otherwise eligible expenses incurred prior to FTA award of a Grant Agreement until FTA has issued pre-award authority for selected projects, or unless FTA has issued a “Letter of No Prejudice” for the project before the expenses are incurred. For more information about FTA's policy on pre-award authority, please see the most recent Apportionment Notice at: https://www.transit.dot.gov/funding/apportionments/current-apportionments.

ii. Grant Requirements

If selected, awardees will apply for a grant through FTA's Transit Award Management System (TrAMS). Recipients of TOD Pilot Program funds are subject to the grant requirements of the Section 5303 Metropolitan Planning program, including those of FTA Circular 8100.1C and Circular 5010.1E. All competitive grants, regardless of award amount, will be subject to the Congressional Notification and release process. Technical assistance regarding these requirements is available from each FTA Regional Office.

Additionally, recipients of TOD Pilot Program funds are required to participate in a briefing on the USDOT-Build America Bureau TIFIA/RRIF financing program.

2. Administrative and National Policy Requirements

i. Planning

FTA encourages applicants to notify the appropriate metropolitan planning organizations in areas likely to be served by the funds made available under this program. Selected comprehensive or site-specific planning projects must be incorporated into the unified planning work programs of metropolitan areas before they are eligible for FTA funding or pre-award authority.

ii. Standard Assurances

The applicant assures that it will comply with all applicable Federal statutes, regulations, executive orders, directives, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

iii. Disadvantaged Business Enterprise

FTA requires that its recipients receiving planning, capital, and/or operating assistance awarding prime contracts exceeding $250,000 in FTA funds in a Federal fiscal year comply with the DOT Disadvantaged Business Enterprise (DBE) program regulations (49 CFR part 26). Applicants should expect to include any funds awarded excluding those to be used for vehicle procurements, in setting their overall DBE goal.

Recipients should be aware that the DBE program regulations were recently revised, and a Final Rule was published in the Federal Register on April 9, 2024 (89 FR 24898). More information is available at https://www.transportation.gov/DBEFinalRule. Some changes took effect on May 9, 2024, and recipients should read the Federal Register notice in detail. Beginning in FY 2025, FTA will move to a tiered system, and essentially all FTA recipients of planning, capital, or operating assistance that procure goods or services with FTA funds will be subject to some DBE program requirements.

iv. Civil Rights and Title VI

As a condition of a grant award, grant recipients must demonstrate that the recipient has a plan for compliance with civil rights obligations and nondiscrimination laws, including Title VI of the Civil Rights Act of 1964 and implementing regulations (49 CFR part 21), the Americans with Disabilities Act of 1990 (ADA), Section 504 of the Rehabilitation Act, all other civil rights requirements, and accompanying regulations. This should include a current Title VI plan, completed Community Participation Plan, and a plan to address any legacy infrastructure or facilities that are not compliant with ADA standards. DOT's and FTA's Office of Civil Rights will work with awarded grant recipients to ensure full compliance with Federal civil rights requirements.

v. Performance and Program Evaluation

As a condition of grant award, grant recipients may be required to participate in an evaluation undertaken by DOT or another agency or partner. The evaluation may take different forms such as an implementation assessment across grant recipients, an impact and/or outcomes analysis of all or selected sites within or across grant recipients, or a benefit/cost analysis or assessment of return on investment. DOT may require applicants to collect data elements to aid the evaluation and/or use information available through other reporting. As a part of the evaluation and as a condition of award, grant recipients must agree to: (1) make records available to the evaluation contractor or DOT staff; (2) provide access to program records, and any other relevant documents to calculate costs and benefits; (3) in the case of an impact analysis, facilitate the access to relevant information as requested; and (4) follow evaluation procedures as specified by the evaluation contractor or DOT staff.

Recipients and subrecipients are also encouraged to incorporate program evaluation including associated data collection activities from the outset of their program design and implementation to meaningfully document and measure their progress towards meeting an agency priority goal(s). Title I of the Foundations for Evidence-Based Policymaking Act of 2018 (Evidence Act), Public Law 115-435 (2019) urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency” (5 U.S.C. 311). Credible program evaluation activities are implemented with relevance and utility, rigor, independence and objectivity, transparency, and ethics (OMB Circular A-11, Part 6 Section 290).

For applicants receiving an award, evaluation costs are allowable costs (either as direct or indirect), unless prohibited by statute or regulation, and such costs may include the personnel and equipment needed for data infrastructure and expertise in data analysis, performance, and evaluation (2 CFR part 200).

3. Reporting

Post-award reporting requirements include submission of Federal Financial Reports and Milestone Progress Reports in FTA's electronic grants management system on a quarterly basis. Applicants should include any goals, targets, and indicators referenced in their application in the Executive Summary of the TrAMS application. Awardees must also submit copies of the substantial deliverables identified in the work plan to the FTA regional office at the corresponding milestones.

As part of completing the annual certifications and assurances required of FTA grant recipients, a successful applicant must report on the suspension or debarment status of itself and its principals. If the award recipient's active grants, cooperative agreements, and procurement contracts from all Federal awarding agencies exceeds $10,000,000 for any period of time during the period of performance of an award made pursuant to this Notice, the recipient must comply with the Recipient Integrity and Performance Matters reporting requirements described in Appendix XII to 2 CFR part 200.

4. Critical Infrastructure Security, Cybersecurity, and Resilience

It is the policy of the United States to strengthen the security and resilience of its critical infrastructure against all hazards, including physical and cyber risks, consistent with Presidential Policy Directive 21—Critical Infrastructure Security and Resilience, and the National Security Memorandum on Improving Cybersecurity for Critical Infrastructure Control Systems. Each applicant selected for Federal funding must demonstrate, prior to the signing of the grant agreement, effort to consider and address physical and cyber security risks relevant to the transportation mode and type and scale of the project. Projects that have not appropriately considered and addressed physical and cyber security and resilience in their planning, design, and project oversight, as determined by the Department and the Department of Homeland Security, will be required to do so before receiving funds. FTA implements this requirement as follows: Pursuant to 49 U.S.C. 5323(v), a recipient that operates a rail fixed guideway public transportation system must certify that the recipient has established a process to develop, maintain, and execute a written plan for identifying and reducing cybersecurity risks. Recipients subject to this requirement must:

1. Utilize the approach described by the voluntary standards and best practices developed under section 2(c)(15) of the National Institute of Standards and Technology Act (15 U.S.C. 272(c)(15)), as applicable;

2. Identify hardware and software that the recipient determines should undergo third-party testing and analysis to mitigate cybersecurity risks, such as hardware or software for rail rolling stock under proposed procurements; and

3. Utilize the approach described in any voluntary standards and best practices for rail fixed guideway public transportation systems developed under the authority of the Secretary of Homeland Security, as applicable. For information about standards or practices that may apply to a rail fixed guideway public transportation system, visit https://www.nist.gov/cyberframework and https://www.cisa.gov/.

TSA issued Security Directive 1582- 21-01B, “Enhancing Public Transportation and Passenger Railroad Cybersecurity” on October 24, 2023. The Security Directive, which extends previous Security Directives, applies to all public passenger rail owners and operators identified in 49 CFR 1582.101, requires four critical actions:

1. Designate a cybersecurity coordinator who is required to be available to TSA and the DHS's CISA at all times (all hours/all days) to coordinate implementation of cybersecurity practices, and manage of security incidents, and serve as a principal point of contact with TSA and CISA for cybersecurity-related matters;

2. Report cybersecurity incidents to CISA;

3. Develop a Cybersecurity Incident Response Plan to reduce the risk of operational disruption should their Information and/or operational technology systems be affected by a cybersecurity incident; and

4. Conduct a cybersecurity vulnerability assessment using the form provided by TSA and submit the form to TSA. The vulnerability assessment will include an assessment of current practices and activities to address cyber risks to information and operational technology systems, identify gaps in current cybersecurity measures, and identify remediation measures and a plan for the owner/operator to implement the remediation measures to address any vulnerabilities and gaps.

Applicants subject to the Directive must certify compliance with the directive to receive the grant award. In addition, TSA issued Information Circular IC-2021-01, “Enhancing Surface Transportation Cybersecurity”, dated December 31, 2021, which applies to each passenger railroad, public transportation agency, or rail transit system owner/operator identified in 49 CFR 1582.1. This circular provides the same four recommendations for enhancing cybersecurity practices listed above. While this document is guidance and does not impose any mandatory requirements, TSA strongly recommends the adoption of the measures set forth in the circular. Finally, on February 10, 2023, FTA published a Cybersecurity Assessment Tool for Transit (CATT) (https://www.transit.dot.gov/research-innovation/cybersecurity-assessment-tool-transit-catt). This tool was developed with the goal to onboard public transit organizations develop and strengthen their cybersecurity program to identify risks and prioritize activities to mitigate these risks.

G. Federal Awarding Agency Contacts

For program-specific questions, please contact April McLean-McCoy, Office of Planning and Environment, (202) 366-7429, email: April.McLeanMcCoy@dot.gov. A TDD is available at 1-800-877-8339 (TDD/FIRS). Any addenda that FTA releases on the application process will be posted at https://www.transit.dot.gov/TODPilot. To ensure applicants receive accurate information about eligibility or the program, they are encouraged to contact FTA directly, rather than through intermediaries or third parties. FTA staff may also conduct briefings on the FY 2024 competitive grants selection and award process upon request. Contact information for FTA's regional offices can be found on FTA's website at https://www.transit.dot.gov.

For issues with GRANTS.GOV, please contact GRANTS.GOV by phone at 1-800-518-4726 or by email at support@grants.gov.

H. Other Program Information

This program is not subject to Executive Order 12372, “Intergovernmental Review of Federal Programs.”

Matthew J. Welbes,
Executive Director.

[FR Doc. 2024-11305 Filed 5-22-24; 8:45 am]

BILLING CODE 4910-57-P